DEPARTMENT OF HOMELAND SECURITY

Coast Guard

33 CFR Part 117

[Docket No. USCG-2022-0237]

Drawbridge Operation Regulation; Keweenaw Waterway, Between Houghton and Hancock, MI

AGENCY: Coast Guard, DHS.

ACTION: Notice of temporary deviation from regulations; request for comments.

SUMMARY: The Coast Guard has issued a temporary deviation from the operating schedule that governs the US41 Bridge, mile 16.0, over the Keweenaw Waterway between the towns of Houghton and Hancock, Michigan. The Michigan Department of Transportation (MDOT), who owns and operates the bridge, has requested a deviation that will test a change to the drawbridge operation schedule to determine whether a permanent change to the schedule is needed. The Coast Guard is seeking comments from the public regarding these proposed changes.

DATES: This deviation is effective from 7 a.m. on May 26, 2022 through 7 p.m. on September 6, 2022. Comments and related material must reach the Coast Guard on or before November 1, 2022.

ADDRESSES: You may submit comments identified by docket number USCG-2022-0237 using Federal Decision Making Portal at https://www.regulations.gov.

See the “Public Participation and Request for Comments” portion of the SUPPLEMENTARY INFORMATION section below for instructions on submitting comments.

FOR FURTHER INFORMATION CONTACT: If you have questions on this proposed rule, call or email Mr. Lee D. Soule, Bridge Management Specialist, Ninth Coast Guard District; telephone 216-902-6085, email Lee.D.Soule@uscg.mil.

SUPPLEMENTARY INFORMATION:

I. Background, Purpose and Legal Basis

The US41 Bridge, mile 16.0, over the Keweenaw Waterway (the bridge) between the towns of Houghton and Hancock, Michigan, is owned and operated by MDOT and is the only crossing over the waterway. The bridge is a combination highway and railroad double deck lift bridge that provides a horizontal clearance of 7-feet in the down position, 103-feet in the open positon, and 35-feet in the intermediate position above low water datum (LWD) based on International Great Lakes Datum of 1985 (IGLD85).

The Keweenaw Waterway divides the Keweenaw Peninsula and is located in the middle of the south shore of Lake Superior, a Great Lake known for hazardous weather conditions. The federal government improved the Keweenaw Waterway in 1861 to accommodate interstate commerce; the Keweenaw Waterway acts as a harbor of safe refuge for vessels caught in bad weather and is the halfway between Duluth, Minnesota and Sault Ste. Marie, Michigan. Commercial vessels, including some over 700-feet in length, and powered and non-powered recreational vessels utilize the waterway. The passenger vessel RANGER III operates from the east side of the US41 Bridge to Isle Royal and is operated by the National Park Service with a capacity of 128-passengers. A U.S. Coast Guard Station is located at the far west end of the waterway.

MDOT has requested a new operating schedule to relieve commuter and commercial vehicle traffic congestion at the bridge on weekdays; the new schedule will not apply to federal holidays that fall on weekdays. Traffic data impacted by COVID-19 restrictions would not provide the public with an accurate assessment of the traffic conditions at the bridge and have intentionally have not been considered. The following data from the 2017 through 2019 drawtender logs and traffic data from July 9 through July 15, 2019 was provided by MDOT. We have received a request to consider restricting the bridge openings at this location at least twice a year since 2016. The comments and data received during this test deviation will prove or disprove the need for restricted openings.

MDOT provided vehicle-crossing data for a five-day workweek and we discovered from 7 a.m. to 7 p.m. the traffic at the bridge steadily increases then decreases without definitive spikes at morning, noon, and evening, as shown in the below graph.

BILLING CODE 9110-04-P

We have placed a color copy of this graph and the three graphs that follow in the docket. See instructions in Section II for viewing items in the docket.

MDOT provided drawtender logs for three years: 2017, 2018, and 2019 to show average opening requests and boating trends.

BILLING CODE 9110-04-C

The temporary deviation is necessary to gather data on a possible permanent solution:

From 7 a.m. on May 26, 2022 through 7 p.m. on September 6, 2022 the US41 Bridge, mile 16.0, over the Kewanee Waterway, shall open on signal: Except that from 7 a.m. to 7 p.m. Monday through Friday, less federal holidays, the draw only need to be opened on the the hour and half-hour for any vessel. Between midnight and 4 a.m. the draw shall be placed in the intermediate position and opened if a 2-hour advance notice is given. The bridge shall be opened on signal to pass any vessel over 300 feet in length or at any time 5 or more vessels gather at the bridge requesting an opening. All other provisions of 33 CFR 117.635 shall remain in effect.

The Coast Guard will also inform the users of the waterways through our Local Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal Decision Making Portal at https://www.regulations.gov. To do so, go to https://www.regulations.gov, type USCG-2022-0237 in the search box and click “Search.” Next, look for this document in the Search Results column, and click on it. Then click on the Comment option. If your material cannot be submitted using https://www.regulations.gov, contact the person in the FOR FURTHER INFORMATION CONTACT section of this document for alternate instructions.

To view documents mentioned in this rule as being available in the docket, find the docket as described in the previous paragraph, and then select “Supporting & Related Material” in the Document Type column. Public comments will also be placed in our online docket and can be viewed by following instructions on the https://www.regulations.gov Frequently Asked Questions web page. We review all comments received, but we will only post comments that address the topic of the proposed rule. We may choose not to post off-topic, inappropriate, or duplicate comments that we receive.

We accept anonymous comments. Comments we post to https://www.regulations.gov will include any personal information you have provided. For more about privacy and submissions in response to this document, see DHS's eRulemaking System of Records notice (85 FR 14226, March 11, 2020).

M.J. Johnston,
Rear Admiral, U.S. Coast Guard, Commander, Ninth Coast Guard District.

[FR Doc. 2022-10564 Filed 5-18-22; 8:45 am]

BILLING CODE 9110-04-P